DEPARTMENT OF COMMERCE

Foreign-Trade Zones Board

[Docket 33-2008]

Foreign-Trade Zone 167—Brown County, WI; Application for Subzone Status; Marinette Marine Corporation (Shipbuilding)

An application has been submitted to the Foreign-Trade Zones Board (the Board) by Brown County, Wisconsin, grantee of FTZ 167, requesting special-purpose subzone status for the shipbuilding facility of Marinette Marine Corporation (MMC), located in Marinette, Wisconsin. The application was submitted pursuant to the provisions of the Foreign-Trade Zones Act, as amended (19 U.S.C. 81a-81u), and the regulations of the Board (15 CFR part 400). It was formally filed on May 12, 2008.

The MMC facility (982 employees/53 acres/365,000 sq.ft.) is located at 1600 Ely Street in Marinette (Marinette County), Wisconsin. The facility is used to construct and repair patrol boats, tug boats, supply vessels, research vessels, anchor handlers, barges, and naval warships for U.S. and international customers. Foreign components that would be used at the MMC shipyard (representing about 20% of finished vessel value) include: marine engines and related parts, reduction gears, propellers, anti-fouling system control panels and anodes, mounting sleeves, fin stabilizers, dynamic positioning systems, winches, pumps, filtering equipment, valves, electronic components, wiring harnesses, generator sets, anchors, bulb flats, doors, windows, sanitary units, manholes, flow meters, chain, and fenders (duty rate range: free-5.0%).

FTZ procedures would exempt MMC from customs duty payments on foreign components used in export activity. On domestic sales, MMC could be able to elect the duty rate applicable to oceangoing vessels (free) for the foreign-origin components noted above. Customs duties also could possibly be deferred or reduced on foreign status production equipment. The manufacturing and repair activity conducted under FTZ procedures would be subject to the “standard shipyard restriction” applicable to foreign-origin steel mill products (e.g., angles, pipe, plate) which requires that full duties be paid on such items. The application indicates that the savings from FTZ procedures would help improve the facility's international competitiveness.

In accordance with the Board's regulations, Pierre Duy of the FTZ Staff is designated examiner to investigate the application and report to the Board.

Public comment is invited from interested parties. Submissions (original and 3 copies) shall be addressed to the Board's Executive Secretary at the address below. The closing period for their receipt is July 15, 2008. Rebuttal comments in response to material submitted during the foregoing period may be submitted during the subsequent 15-day period to July 30, 2008.

A copy of the application and accompanying exhibits will be available for public inspection at each of the following locations: Office of the Port Director, U.S. Customs and Border Protection, 2077 Airport Drive, Green Bay, Wisconsin 54313; and, Office of the Executive Secretary, Foreign-Trade Zones Board, Room 2111, U.S. Department of Commerce, 1401 Constitution Avenue, NW., Washington, DC 20230-0002. For further information, contact Pierre Duy at pierre_duy@ita.doc.gov, or (202) 482-1378.

Dated: May 12, 2008.
Pierre V. Duy,
Acting Executive Secretary.

[FR Doc. E8-11055 Filed 5-15-08; 8:45 am]

BILLING CODE 3510-DS-P